DEPARTMENT OF JUSTICE

Notice of Lodging of Consent Decree Pursuant to the Clean Air Act

Notice is hereby given that on July 13, 2012, a proposed consent decree in United States, et al. v. Chevron U.S.A. Inc., et al., Civil Action No. 12-4328 (FSH), was lodged with the United States District Court for the District of New Jersey.

The proposed consent decree will settle claims by the United States and the State of New Jersey relating to alleged violations of Sections 112 and 114 of the Clean Air Act, 42 U.S.C. 7412 and 7414, and the regulations promulgated thereunder pertaining to leak detection and repair (“LDAR”) for hazardous air pollutants, 40 CFR Part 63, Subparts A, H and CC, at an asphalt petroleum refinery owned and operated by Chevron U.S.A. Inc. and Chevron U.S.A. Inc. d/b/a Chevron Products Company in Perth Amboy, New Jersey. The proposed consent decree requires the payment of a $463,750 civil penalty. In addition, although the plant has not refined asphalt since 2008, Chevron agrees to implement an enhanced LDAR program in the event refinery operations restart within the three year time frame of the proposed consent decree.

The Department of Justice will receive for a period of thirty (30) days from the date of this publication comments relating to the proposed consent decree. Comments should be addressed to the Assistant Attorney General, Environment and Natural Resources Division, and either emailed to pubcomment-ees.enrd@usdoj.gov or mailed to P.O. Box 7611, U.S. Department of Justice, Washington, DC 20044-7611, and should refer to United States, et al. v. Chevron U.S.A. Inc., et al., D.J. Ref. 90-5-2-1-09627.

During the public comment period, the proposed consent decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or emailing a request to “Consent Decree Copy”(EESCDCopy.ENRD@usdoj.gov), fax no. (202) 514-0097, phone confirmation number (202) 514-5271. If requesting a copy from the Consent Decree Library by mail, please enclose a check in the amount of $11.75 (25 cents per page reproduction cost) payable to the U.S. Treasury or, if requesting by email or fax, forward a check in that amount to the Consent Decree Library at the address given above.

Maureen Katz,
Assistant Chief, Environmental, Enforcement Section, Environment and Natural Resources Division.

[FR Doc. 2012-18096 Filed 7-24-12; 8:45 am]

BILLING CODE 4410-15-P